DEPARTMENT OF HEALTH AND HUMAN SERVICES

Centers for Disease Control and Prevention

[30Day-28-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project

2004 American Indian Adult Tobacco Survey Pilot Test—New—National Center for Chronic Disease Prevention and Health Promotion (NCCDPHP), Centers for Disease Control and Prevention (CDC).

The purpose of this project is to test and pilot a culturally appropriate Adult Tobacco Survey questionnaire for American Indians and Alaska Natives. This questionnaire will expand data and existing knowledge of tobacco use among American Indians and Alaska Natives in order to benefit tobacco use and prevention surveillance at a tribal, state, and/or regional level. The questions will help to narrow existing gaps in knowledge of tobacco use among different tribes and inform development of tribal-specific interventions.

Current smoking prevalence among American Indians and Alaska Natives (36.0 percent) is highest compared to all other racial/ethnic groups (2000 NHIS). While national and regional data exist for American Indians and Alaska Natives, tribal level data is extremely limited. Currently, there are over 500 sovereign tribal nations in the U.S. In order to better understand tobacco use among American Indians and Alaska Natives, CDC is conducting a survey project that includes:

(1) Developing a culturally appropriate Adult Tobacco Survey questionnaire for tribes.

(2) Piloting the final instrument in approximately 24 tribes represented by six Tribal Support Centers (TSCs).

In an effort to better understand the effects of smoking in American Indian and Alaska Native populations, the Support Centers for Tobacco Programs (SCTP) will utilize a culturally appropriate questionnaire for pilot implementation in six different tribal centers. The centers are located in Alaska, California, Oklahoma, Michigan, along with two tribal centers located in the upper Midwest and upper Northwest. In total, the SCTPs will collect 2,691 completed surveys (the number varying by Center respective to the size of each tribe, 18 years of age and older), which will be representative of distinct tribal communities conducting the survey. The SCTP will be responsible for obtaining the completed surveys. Trained individuals from each of the respective communities and/or support centers will conduct interviews. Most interviews will be conducted face-to-face, with a small proportion conducted by telephone. The total annualized burden is estimated to be 1,794 hours.

Location | Number of respondents | Number of responses per respondent | Avg. burden per response (in hrs.)
Alaska | 450 | 1 | 40/60
California | 466 | 1 | 40/60
Michigan | 450 | 1 | 40/60
Oklahoma | 600 | 1 | 40/60
Upper Midwest | 350 | 1 | 40/60
Upper Northwest | 375 | 1 | 40/60

Dated: March 25, 2004.
Joe E. Salter,
Acting Director, Management Analysis and Services Office, Centers for Disease Control and Prevention.

[FR Doc. 04-7308 Filed 3-31-04; 8:45 am]

BILLING CODE 4163-18-U